DEPARTMENT OF HEALTH AND HUMAN SERVICES

National Institutes of Health

National Institute of Environmental Health Sciences; Amended Notice of Meeting

Notice is hereby given of a change in the meeting of the National Heart, Lung, and Blood Advisory Council, August 31, 2021-September 1, 2021, National Institutes of Health, Bethesda, Maryland, 20892, which was published in the Federal Register on August 4, 2021, FR Doc 2021-16549, 86 FR 41983.

This notice is being amended to change the start time for the second Open session on September 1, 2021, which will now be 12:30 p.m. and will still end at 2:30 p.m. as listed. The meeting is closed to the public.

Dated: August 25, 2021.
David W. Freeman,
Program Analyst, Office of Federal Advisory Committee Policy.

[FR Doc. 2021-18725 Filed 8-30-21; 8:45 am]

BILLING CODE 4140-01-P